DEPARTMENT OF TRANSPORTATION

Federal Aviation Administration

Tenth Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held October 8-12, 2007 from 9 a.m. to 5 p.m.

ADDRESSES: The meeting will be held at Boeing Longacres Park Building 25-01, SW., 16th Street, Renton, Washington.

FOR FURTHER INFORMATION CONTACT: (1) RTCA Secretariat, 1828 L Street, NW., Suite 805, Washington, DC 20036-5133; telephone (202) 833-9339; fax (202) 833-9434; Web site http://www.rtca.org; (2) Hosted by Boeing; Onsite Contact: Bob Smith; telephone (425) 266-8186; fax (425) 294-1944.

SUPPLEMENTARY INFORMATION: Pursuant to section 10(a)(2) of the Federal Advisory Committee Act (Pub. L. 92-463, 5 U.S.C., Appendix 2), notice is hereby given for a Special Committee 206 meeting/EUROCE WG 76. The agenda will include:

• October 8:

• Opening Session (Chairman's Remarks and Introductions, Review and Approve Meeting Agenda and Minutes, Discussion, Action Item Review).

• Resolve Final Review and Comment (FRAC) comments on draft document—Operational Services and Environment Definition (OSED) Aeronautical Information Services (AIS) and Meterological (MET) Data Link Services, called OSED.

• October 9:

• Continue FRAC comment resolution on OSED.

• October 10:

• Continue FRAC comment resolution on OSED.

• October 11:

• Continue FRAC comment resolution on OSED.

• October 12:

• Commence work on SPR and INTEROP documents.

• Plenary Session.

• Closing Session (Other Business, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 31, 2007.
Francisco Estrada C.,
RTCA Advisory Committee.

[FR Doc. 07-4475 Filed 9-11-07; 8:45 am]

BILLING CODE 4910-13-M